DEPARTMENT OF STATE

[Public Notice 8861]

In the Matter of the Designation of Abu Mohammed al-Adnani Also Known as Taha Sobhi Falaha Also Known as Abu Mohammad Al-Adnani Also Known as Yasser Khalaf Hussein Nazal al-Rawi Also Known as Jaber Taha Falah Also Known as Abu Baker al-Khatab Also Known as Abu Sadek al-Rawi Also Known as Taha al-Banshi Also Known as Abu Mohamed al-Adnani Also Known as Abu-Muhammad al-Adnani al-Shami as a Specially Designated Global Terrorist Pursuant to Section 1(b) of Executive Order 13224, as Amended

Acting under the authority of and in accordance with section 1(b) of Executive Order 13224 of September 23, 2001, as amended by Executive Order 13268 of July 2, 2002, and Executive Order 13284 of January 23, 2003, as well as Department of State Delegation Authority No. 284-1, dated February 13, 2009, I hereby determine that the individual known as Abu Mohammed al-Adnani, also known as Taha Sobhi Falaha, also known as Abu Mohammad Al-Adnani, also known as Yasser Khalaf Hussein Nazal al-Rawi, also known as Jaber Taha Falah, also known as Abu Baker al-Khatab, also known as Abu Sadek al-Rawi, also known as Taha al-Banshi, also known as Abu Mohamed al-Adnani, also known as Abu-Muhammad al-Adnani al-Shami committed, or poses a significant risk of committing, acts of terrorism that threaten the security of U.S. nationals or the national security, foreign policy, or economy of the United States.

Consistent with the determination in section 10 of Executive Order 13224 that “prior notice to persons determined to be subject to the Order who might have a constitutional presence in the United States would render ineffectual the blocking and other measures authorized in the Order because of the ability to transfer funds instantaneously,” I determine that no prior notice needs to be provided to any person subject to this determination who might have a constitutional presence in the United States, because to do so would render ineffectual the measures authorized in the Order.

This notice shall be published in the Federal Register.

Dated: August 15, 2014.
Wendy R. Sherman,
Under Secretary of State for Political Affairs.

[FR Doc. 2014-21325 Filed 9-5-14; 8:45 am]

BILLING CODE 4710-10-P